DEPARTMENT OF LABOR

Office of the Acting Secretary

All Items Consumer Price Index for All Urban Consumers; United States City Average

Pursuant to section 315(c) of the Federal Election Campaign Act of 1971, as amended (Pub. L. 92-225), 52 U.S.C. 30116(c), the Secretary of Labor has certified to the Chair of the Federal Election Commission and publishes this notice in the Federal Register that the United States City Average All Items Consumer Price Index for All Urban Consumers (CPI-U) (1967=100) increased 518.0 percent from its 1974 annual average of 147.7 to its 2023 annual average of 912.551 and it increased 72.1 percent from its 2001 annual average of 530.4 to its 2023 annual average of 912.551. Using 1974 as a base (1974=100), I certify that the CPI-U increased 518.0 percent from its 1974 annual average of 100 to its 2023 annual average of 617.976. Using 2001 as a base (2001=100), I certify that the CPI-U increased 72.1 percent from its 2001 annual average of 100 to its 2023 annual average of 172.087. Using 2006 as a base (2006=100), I certify that the CPI-U increased 51.1 percent from its 2006 annual average of 100 to its 2023 annual average of 151.143.

Signed at Washington, DC.
Julie A. Su,
Acting Secretary of Labor.

[FR Doc. 2024-16782 Filed 7-30-24; 8:45 am]

BILLING CODE 4510-24-P